DEPARTMENT OF AGRICULTURE

Farm Service Agency

Information Collection: Minority Farm Register

AGENCY: Farm Service Agency, USDA.

ACTION: Notice and request for comments.

SUMMARY: In accordance with the Paperwork Reduction Act of 1995, the Farm Service Agency (FSA) is seeking comments from all interested individuals and organizations on the collection of information for a Minority Farm Register, which is a voluntary register of minority farm or ranch operators, landowners, tenants and others with farming or reaching interest. The Minority Farm register will provide a listing to be used by USDA's Office of Outreach and other minority outreach organizations to better serve minority farmers and help abate the decline of minority farmers throughout the country.

DATES: Comments on this notice must be received on or before October 21, 2003 to be assured consideration. Comments received after that date will be considered to the extent practicable. Comments should reference the OMB number and title of the information collection to which they pertain.

ADDRESSES: Comments should be sent to Ronald W. Holling, Assistant to the Director, Office of Business and Program Integration, Farm Service Agency, STOP 0501, 1400 Independence Avenue, SW., Washington, DC 20250-0501, (202) 720-8530; e-mail Ronald Holling@usda.gov, and to the Desk Officer for Agriculture, Office of Information and Regulatory Affairs, Office of Management and Budget, Washington, DC 20503. All comments will become a matter of public record. For further information, contact Ronald Holling at the address listed above.

SUPPLEMENTARY INFORMATION:

Title: USDA Minority Farm Register.

OMB Number: 0560-NEW.

Type of Request: Request for Approval of a New Information Collection.

Abstract: The purpose of this information collection is to create a Minority Farm Register, which is a voluntary register of minority farm or ranch operators, landowners, tenants and others with farming or ranching interest. The information to be collected will be name, address, Social Security Number, phone number, race, ethnicity and gender. The names and addresses will be the only required information. Providing Social Security Numbers, phone numbers, race, ethnicity and gender will be completely voluntary. The Register will provide a listing to be used by USDA's Office of Outreach to help minority farm and ranch operators who are not land owners to be introduced to FSA's land ownership and farm loan programs to acquire land and position minority owners of farm and ranch land to be informed of FSA and other USDA farm programs. Except for Social Security Numbers, information on the list may be shared with community-based outreach organizations. The Social Security Numbers, when provided, will only be used internally by USDA to match the person with their farm program records in order to better target outreach efforts. Race, ethnicity and gender, when provided, will be used by USDA and minority outreach organizations that serve the particular clientele.

The Minority Farm Register will be established by FSA and jointly administered with USDA's Office of Outreach. A specific register sign-up form will be issued in Spanish and English. Informational registration material will be distributed to community-based organizations, minority-serving educational institutions, and government agencies assisting minorities with land retention and acquisition, and will be available on the internet to ensure the program is widely publicized and accessible to all. Community-based organizations, minority-serving educational institutions and other groups serving minority clientele will be partnered with as needed. The USDA is requesting a 3-year extension of approval.

This information collection was previously approved by OMB for USDA's Office of Outreach under OMB Control Number 0508-0004. The collection is being transferred to FSA and approval is being sought as a new collection of information.

Respondents: Individuals and households.

Estimated annual number of respondents: 54,000.

Estimated annual number of forms filed per person: 1.

Estimated average time to respond: 5 minutes (0.083 hours).

Estimated total annual burden hours: 4,500.

Comments are invited on (1) whether the collection of information is necessary for the proper performance of the functions of the agency, including whether the information will have practical utility; (2) the accuracy of the agency's estimate of burden, including the validity of the methodology and assumptions used; (3) ways to enhance the quality, utility and clarity of the information to be collected; and (4) ways to minimize the burden of the collection of information on those who are to respond, including through the use of appropriate automated, electronic, mechanical, or other technological collection techniques or other forms of information technology.

All comments received in response to this notice, including names and addresses when provided, will be a matter of public record. Comments will be summarized and included in the submission for OMB approval.

Dated: Signed at Washington, DC, on July 10, 2003.
James R. Little,
Administrator, Farm Service Agency.

[FR Doc. 03-21532 Filed 8-21-03; 8:45 am]

BILLING CODE 3410-05-P